ENVIRONMENTAL PROTECTION AGENCY

[ER-FRL-6650-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 2, 2004 (69 FR 17403).

Draft EISs

ERP No. D-AFS-J65401-00 Rating EC2, Northern Rockies Lynx Amendment, To Conserve and Promote Recovery of the Canada Lynx, NFS and BLM to Amend Land Resource Management Plans for 18 National Forests (NF), MT, WY, UT and ID.

Summary: EPA expressed concerns that the preferred alternative would allow activities potentially damaging to lynx and its habitat and may not promote adequate conservation to allow lynx recovery. EPA recommended that the involved federal agencies develop standards to better balance lynx conservation and multiple-use needs.

ERP No. D-AFS-J65405-ND Rating EC1, Equity Oil Company Federal 32-4 and 23-21 Oil and Gas Wells Surface Use Plan of Operation (SUP0), Implementation, Located in the Bell Lake Inventoried Roadless Area (IRA), Dakota Prairie Grasslands, Medora Ranger District, Goldon Valley County, ND.

Summary: EPA expressed environmental concerns due to impacts from roads into Inventoried Roadless Area. EPA recommended avoiding and/or minimizing disturbances in the Inventoried Roadless Area and fully implementing proposed monitoring and mitigation measures. ERP No. D-AFS-J65408-MT Rating EC2, Fortine Project, To Implement Vegetation Management, Timber Harvest and Fuel Reduction Activities, Kootenai National Forest, Fortine Ranger District, Lincoln County, MT.

Summary: EPA expressed concerns due to impacts from sediment production and transport from proposed timber harvest activities in the watershed of 303(d) listed Fortine Creek. EPA recommended additional information and analysis to clarify the ability of watershed restoration to adequately offset sediment produced during timber harvest and road construction, as well as including detailed monitoring and mitigation plans.

ERP No. D-AFS-K65307-AZ Rating EC2, Coconino, Kaibab, and Prescott National Forest, Integrated Treatment of Noxious and Invasive Weeds, Implementation, Coconino, Mojave and Yavapai Counties, AZ.

Summary: EPA expressed concerns due to potential impacts to drinking water sources from herbicide applications. EPA requested information on this issue and mitigation to avoid or reduce possible drinking water impacts. ERP No. D-AFS-L65450-00 Rating LO, Chips Ahoy Project, Proposes Vegetation, Wildlife Habitat, Recreation and Aquatic Improvement Treatments, Idaho Panhandle National Forests, Priest Lake Ranger District, Bonner County, ID and Pend Orielle County, WA.

Summary: While EPA has no objection to the proposed action, additional information was requested on recreation activities be included in the Final EIS and that vegetation management in Canada Lynx and Fisher habitat be staggered over time.

ERP No. D-FHW-E40794-00 Rating EC2, Interstate 69 National Corridor, Connecting Henderson, Kentucky to Evansville, Indiana, NPDES, and U.S. Army COE Section 10 and 404 Permits, Transportation Equity Act for the 21st, KY and IN.

Summary: EPA expressed concerns regarding impacts relating to the non-attainment of the 8-hour ozone standard, as well as noise and wetlands impacts. Potential impacts to federally-listed species is an additional area of concern.

ERP No. D-NPS-K65267-CA Rating LO, Point Reyes National Seashore (PRNS) and the North District of Golden Gate National Recreation Area (GGNRA) Fire Management Plan, Implementation, Marin County, Ca.

Summary: EPA expressed a lack of objections to this project but requested clarification of water quality mitigation measures and the biological opinion.

Final EISs

ERP No. F-AFS-E65038-FL, USDA Forest Service and State of Florida Land Exchange Project, Assembled Exchange of both Fee, Ownership Parcels and Partial Interest Parcels, Baker, Citrus, Franklin, Hernando, Lake, Liberty, Okaloosa, Osceola, Santa Rosa and Sumter Counties, FL.

Summary: EPA supports the proposed action to consolidate lands and therefore has no objections to the project.

ERP No. F-AFS-E65067-AL, Forest Health and Red-Cockaded Woodpecker (RCW) Initiative, Implementation, Talladega National Forest, Talladega and Shoal Creek Ranger Districts, Calhoun, Cherokee, Clay, Clebourne and Talladega Counties, AL.

Summary: EPA has no objections to the proposed action.

ERP No. F-AFS-F65044-MI, Baltimore Vegetative Management Project, Implementation, Ottawa National Forest, Ontonagon Ranger District, Ontonagon County, MI.

Summary: EPA continues to express concern relating to glossy buckhorn control and deer monitoring.

ERP No. F-AFS-L65439-OR, Monument Fire Recovery Project, Whitman Unit —Wallowa—Whitman National Forest (WWNF) Timber Harvest of Fire Killed/Dying Trees, Reforestation, Recovery of Herbaceous, Native Vegetation and Maintenance or Improvement of Water Quality, Implementation, Baker County, OR.

Summary: No formal comment letter was sent to the preparing agency.

ERP No. F-BLM-J01079-WY, South Powder River Basin Coal Project, Application for Leasing of Five Federal Coal Tracts: NARO Tracts: NARO North and NARO South (North Antelope/ Rochelle Mine Complex), Little Thunder (Black Thunder Mine) West Roundup (North Rochelle Mine) and West Antelope (Antelope Mine), Campbell and Converse Counties, WY.

Summary: EPA expressed environmental concerns due to impacts from fugitive dust and the need for an air cumulative impact analysis.

ERP No. F-BLM-J65376-CO, Gunnison Gorge National Conservation Area Resource Management Plan, Implementation, Montrose and Delta Counties, CO.

Summary: No formal comment letter was sent to the preparing agency.

ERP No. F-FHW-E40782-NC, Western Wake Freeway, Transportation Improvements from NC-55 at NC-1172 (Old Smithfield Road) to NC-55 near NC-1630 (Alston Avenue), Funding and COE 404 Permit, Wake County, NC.

Summary: EPA continues to express concerns due to non-mitigable impacts to terrestrial forests and other upland natural systems. EPA also continues to be concerned about potential noise receptor impacts in Feltonsville and the preparation, review and approval of a wetland and stream mitigation plan.

Dated: April 27, 2004.
Ken Mittelholtz,
Environmental Protection Specialist, Office of Federal Activities.

[FR Doc. 04-9877 Filed 4-29-04; 8:45 am]

BILLING CODE 6560-50-P